DEPARTMENT OF EDUCATION

Applications for New Awards; Rehabilitation Training: Rehabilitation Long-Term Training Program

AGENCY: Office of Special Education and Rehabilitative Services, Department of Education.

ACTION: Notice.

SUMMARY: The U.S. Department of Education (Department) is issuing a notice inviting applications (NIA) for fiscal year (FY) 2025 for the Rehabilitation Long-Term Training (RLTT) program.

DATES:

Applications Available: June 20, 2025.

Application Deadline: July 17, 2025.

Deadline for Intergovernmental Review: September 15, 2025.

Date of Pre-Application Resources: OSERS will provide resources specific to this competition which will be available at https://ncrtm.ed.gov/RSAGrantInfo.aspx. OSERS invites you to send questions to 84.129@ed.gov.

ADDRESSES: For the addresses for obtaining and submitting an application, please refer to our Common Instructions for Applicants to Department of Education Discretionary Grant Programs, published in the Federal Register on December 23, 2024 (89 FR 104528) and available at https://www.federalregister.gov/documents/2024/12/23/2024-30488/common-instructions-for-applicants-to-department-of-education-discretionary-grant-programs.

FOR FURTHER INFORMATION CONTACT: Diandrea Bailey, U.S. Department of Education, 400 Maryland Avenue SW, Room 4A10, Washington, DC 20202-2800. Telephone: (202) 245-6244. Email: 84.129@ed.gov.

If you are deaf, hard of hearing, or have a speech disability and wish to access telecommunications relay services, please dial 7-1-1.

SUPPLEMENTARY INFORMATION:

Full Text of Announcement

Funding Opportunity Description

Purpose of Program: The purpose of the RLTT program is to provide financial assistance for academic training areas of personnel shortages in vocational rehabilitation identified by the Secretary and published in a notice in the Federal Register. Grantees must award at least 65 percent of project funds as scholarships (i.e., awards of financial assistance, including disbursements or credits for student stipends, tuition and fees, books and supplies, and student travel in conjunction with training assignments) to students (herein referred to as RSA scholars) enrolled in the RLTT program. The program trains RSA scholars to possess the skills needed to address the specialized needs of individuals with specific types of disability conditions, which may include, but are not limited to, physical disabilities, mental health disorders or illnesses, intellectual and developmental disabilities (including Autism), blindness, and deaf or hard of hearing.

Assistance Listing Numbers: 84.129B, 84.129E, 84.129H, 84.129L, 84.129P, 84.129Q, and 84.129W.

OMB Control Number: 1894-0006.

Eligible Applicants: States and public or private nonprofit agencies and organizations, including Indian Tribes and institutions of higher education.

Type of Award: Discretionary grants.

Estimated Available Funds: $15,000,000.

Estimated Number of Awards: See chart.

The actual number of awards will be determined by the quality of applications submitted under each topic area. The Secretary intends to fund at least one award in each priority or topic area. Thus, the Secretary may fund applications out of rank order.

Estimated Average Size of Awards: See chart.

Maximum Award: See chart.

Note: The Department is not bound by any estimates in this notice.

Project Period: Up to 60 months.

Priority or topic area | Estimated number of awards | Average size of award | Maximum award (budget period of 12 months)
84.129B Rehabilitation Counseling | 23 | $200,000 | $200,000
84.129E Rehabilitation Technology | 5 | 175,000 | 175,000
84.129H Individuals Who Are Mentally Ill | 15 | 200,000 | 200,000
84.129L Undergraduate Education in Rehabilitation Services | 10 | 175,000 | 175,000
84.129P Individuals Who Are Blind, Have Low Vision | 9 | 175,000 | 175,000
84.129Q Individuals Who Are Hard of Hearing | 2 | 150,000 | 150,000
84.129W Comprehensive System of Personnel Development | 15 | 200,000 | 200,000

We will not make awards exceeding the maximum award amounts in any given budget period.

Priorities: This notice includes two absolute priorities and one invitational priority. In accordance with 34 CFR 74.105(b)(2)(ii), all the priorities are from the Notice of Final Priorities and Requirements (NFP) published elsewhere in this issue of the Federal Register.

Absolute Priorities: For FY 2025, and any subsequent year in which we make awards from the list of unfunded applications from this competition, there are two absolute priorities. Under 34 CFR 75.105(c)(3), we consider only applications that meet one of these priorities. Each application should address only one absolute priority.

Absolute Priority 1: RLTT Program for State VR Agencies' CSPD: Master's Degree or Certificate, Assistance Listing Number (ALN) 84.129W.

Projects that propose a CSPD project that provides training to currently employed State VR agency personnel, including VR counselors with disabilities. Within CSPD training, applicants may identify an area of concentration consistent with this priority, such as vocational evaluation and career assessment or others.

The academic training for all participants must meet the designated State unit (DSU) personnel standards required under section 101(a)(7) of the Rehabilitation Act of 1973, as amended, and 34 CFR 361.18. The training must also meet the qualifications for the master's degree or academic certificate specified in the State's CSPD plans or of the States with which the State VR counselors and other personnel are working.

CSPD proposed projects must develop and use innovative approaches to train VR professionals, including using cutting-edge technology or innovative applications of advanced technology (e.g., hybrid learning and competency-based programs) to maximize participation in, and improve the effectiveness of, the academic training.

Absolute Priority 2: RLTT Program for Rehabilitation Topic Areas, ALNs 84.129B, 84.129E, 84.129H, 84.129L, 84.129P, and 84.129Q.

Projects that provide academic training to RSA scholars where the training leads to a degree (undergraduate or master's level) or academic certificate in one of six rehabilitation topic areas that follow. Within these topic areas, applicants may identify an area of concentration consistent with this priority, such as vocational evaluation and career assessment or others.

1. Vocational Rehabilitation (VR) Counseling: Master's Degree (ALN 84.129B). Projects in this topic area must be designed to support RSA scholars interested in pursuing a master's degree in VR counseling. Projects must increase the skills of RSA scholars so that they are, upon successful completion of their program of study, prepared to, effectively and with an advanced level of expertise, help individuals with disabilities (consumers) meet their career and personal goals and help employers in their hiring efforts. Projects should also increase RSA scholars understanding of and ability to support consumers access to pre-employment transition services.

2. Rehabilitation Technology (ALN 84.129E). Projects in this topic area must provide scholarships to RSA scholars to pursue a degree or certificate in the application of advanced technology in rehabilitation services, and for use in careers in rehabilitation technology. Rehabilitation technology training includes training on the use, applications, and benefits of technology (including assistive technology and artificial intelligence tools) for individuals with disabilities to achieve and/or maintain competitive integrated employment and independence.

The rehabilitation technology training program must be designed to ensure that RSA scholars acquire a 21st-century understanding of the evolving technology labor force, the needs of individuals with disabilities that might be addressed via technology, and the ways technology can unlock individuals' strengths.

3. Rehabilitation of Individuals With Mental Health Disorders or Illnesses (ALN 84.129H). Projects in this topic area must be designed to support RSA scholars interested in pursuing a degree or certificate for careers that provide specialized services to individuals who have mental health disorders or illnesses and are participants in the State VR programs. Additionally, projects must be designed to prepare RSA scholars to address a range of issues in VR services for individuals with mental health disorders or illnesses to assist them to achieve and maintain competitive integrated employment.

4. Undergraduate Education in the Rehabilitation Services (ALN 84.129L). Projects in this topic area must train undergraduate RSA scholars interested in pursuing careers as rehabilitation counselors or generalists, VR paraprofessionals, or other entry-level positions in the public VR services. Projects must also be designed to provide training and clinical learning experiences to equip RSA scholars with foundational knowledge of disability conditions, VR processes, interviewing techniques, and other skills required for working with consumers in the public VR services, including the skills to coordinate the diagnosis and evaluation of a person's disabling condition, create individual plans, arrange various VR services, assist VR counselors in working with persons with disabilities in selecting a vocational goal, provide personal and social adjustment services, conduct job placement activities, and provide follow-up services to individuals after other services are completed. Pre-employment transition services should be included as part of programmatic content.

5. Rehabilitation of Individuals Who Are Blind or Have Low Vision (ALN 84.129P). Projects in this topic area must train RSA scholars interested in pursuing a degree or certificate for careers in providing specialized services to persons who are blind or have low vision. Projects must be designed to provide training and hands-on experiences in VR services for persons who are blind or have low vision to assist them to achieve and/or maintain competitive integrated employment, including training in orientation and mobility, methods of independent and safe travel, and application of advanced technology.

6. Rehabilitation of Individuals Who Are Deaf or Hard of Hearing (ALN 84.129Q). Projects in this topic area must train RSA scholars interested in pursuing a degree or certificate for careers in providing specialized rehabilitation to persons who are deaf or hard of hearing. The training must include opportunities for RSA scholars to acquire the necessary skills to communicate effectively with individuals who are deaf or hard of hearing, and to assess and address the communication needs of individuals who are deaf or hard of hearing. Additionally, projects must have plans to support RSA scholars in developing competency in sign language/ASL and other communication methods as well as familiarity with the use of various assistive listening devices and application of other advanced assistive technology.

Projects must provide assistance to scholars to secure or maintain employment with State VR agencies, where the job duties include provision of rehabilitation of individuals who are deaf or hard of hearing (e.g., assessment services, vocational and adjustment counseling services, provision of independent living skills training, interpreting services, interpreter referral services, advocacy services, and job placement services).

The academic training for all participants must meet the DSU personnel standards required under section 101(a)(7) of the Rehabilitation Act of 1973, as amended, and 34 CFR 361.18.

Rehabilitation topic area projects under this priority must develop and use innovative approaches to train RSA scholars, including using cutting-edge technology or innovative application of advanced technology (e.g., hybrid learning or competency-based programs) to maximize participation in, and improve the effectiveness of, the academic training.

In addition to academic training, RSA funded projects may provide a one-time stipend, to an amount as specified in the Notice Inviting Applications published in the Federal Register to RSA scholars based on identified needs for—

(a) completing an internship (e.g., room and board, travel);

(b) obtaining qualifying employment in the specific field of study within a period of time after graduating and maintaining qualifying employment a minimum period of time beyond the required service obligation period as specified in the NIA; and

(c) utilizing a vetted employment expert or consultant to assist the RSA scholar in securing employment within a period of time after graduating with a State VR or related agency in the field of study as specified in the NIA.

Invitational Priority: For FY 2025, and any subsequent year in which we make awards from the list of unfunded applications from this competition, this priority is an invitational priority. Under 34 CFR 75.105(c)(1) we do not give an application that meets this invitational priority a competitive or absolute preference over other applications.

This priority is:

Invitational Priority: Maximizing Grant Award Amount for Scholarships.

Projects that use at least 85 percent of the total cost of a project under this program for scholarships as defined in 34 CFR 386.4.

Requirements: For FY 2025, and any subsequent year in which we make awards from the list of unfunded applications from this competition, applicants must meet the following application requirements from the NFP.

Application Requirements: All applicants must—

(a) Provide data on the current and projected employment needs and personnel shortages in State VR agencies and other related agencies (as defined in 34 CFR 386.4) in their local area, region, and State; and describe how the proposed project will address those employment needs and personnel shortages;

(b) Describe how the project will train RSA scholars, as applicable, including how the project will provide them with an understanding of the evolving labor force and the needs of individuals with disabilities to ensure that the RSA scholars have a 21st century understanding of the evolving labor force and the needs of individuals with disabilities. Applicants must describe how, upon completion of the training program, State VR personnel including VR counselors or RSA scholars will be prepared to assist individuals with disabilities to meet current demands and emerging trends in the labor market, including how—

(1) The program provides a breadth of knowledge, experience, and rigor that will adequately prepare scholars to meet the employment needs and goals of VR consumers and aligns with evidence-based (as defined in 34 CFR 77.1) practices and with competency-based skills (e.g., advanced counseling skills, critical thinking skills, and skills in building collaborative relationships);

(2) The program prepares RSA scholars to meet all applicable certification standards;

(3) The program addresses new or emerging consumer employment needs or trends at the national, State, and regional levels;

(4) The program trains RSA scholars to possess the skills needed to address the specialized needs of individuals with specific types of disability conditions, which may include, but are not limited to, physical disabilities, mental health disorders or illnesses, intellectual and developmental disabilities, blindness, and deafness;

(5) The program trains RSA scholars to understand the applications and strategies related to the integration of advanced assistive technology and artificial intelligence tools into VR services to fuel competitive integrated employment in the 21st century for individuals with disabilities and recognize the assistive technology needs of consumers and employers who hire individuals with disabilities throughout the rehabilitation process so that they will be better able to coordinate the provision of appropriate advanced assistive technology services and devices including artificial intelligence in order to assist the consumers to obtain and retain competitive integrated employment;

(6) The program teaches RSA scholars to work effectively with employers, including by teaching strategies for developing relationships with employers in their State and local areas, identifying employer needs and skill demands, making initial employer contacts, presenting job-ready clients to potential employers, and conducting follow-up with employers;

(7) The program teaches RSA scholars to work effectively with state education agencies (SEAs), and local educational agencies (LEAs), particularly special education systems and educators. This includes instruction on collaborating effectively with SEAs, LEAs, school administrators, and special education teachers to ensure their awareness of pre-employment transition services and vocational rehabilitation transition services, and ensuring the successful planning and provision of these services; and

(8) The latest technology is incorporated into the methods of instruction (e.g., technology that supports the use of hybrid education to reach scholars who live far from the university and the use of technology to acquire labor market information);

(c) Describe their methods to—

(1) Recruit highly capable prospective State VR counselors or RSA scholars who have the potential to successfully complete the academic program, all required practicum and internship experiences, and the required service obligation;

(2) Educate potential RSA scholars about the terms and conditions of the service obligation under 34 CFR 386.4, 386.34, and 386.40 through 386.43 so that they will be fully informed before accepting a scholarship and aware of the consequences should they fail to complete the program;

(3) Maintain a system that ensures that RSA scholars sign a payback agreement when they start and an exit certification form when they exit the program, regardless of whether they drop out, are removed, or successfully complete the program;

(4) Provide academic support and counseling to RSA scholars throughout the course of the academic program to ensure successful completion;

(5) Ensure that all RSA scholars complete an internship in a State VR agency (as defined in 34 CFR 386.4) as a requirement for program completion, unless the Secretary determines upon grantee request that there is sufficient justification for not completing an internship;

(6) Provide career counseling, including informing RSA scholars of professional contacts and networks, job leads, including those available through the RSA Payback Information Management System (PIMS), and other necessary resources and information to support RSA scholars in successfully obtaining and retaining qualifying employment;

(7) Maintain bi-monthly contact with RSA scholars upon successful academic training program completion and provide post-graduation support to assist RSA scholars to achieve qualifying employment as well as employment support, at a minimum, for the RSA scholars' initial three to six months of employment;

(8) Maintain quarterly communication with RSA scholars after program exit until the beginning of their service obligation date to ensure that scholar contact information in PIMS is up to date;

(9) Maintain and safeguard credentials to access PIMS for the timely review and approval of scholar employment; and

(10) Maintain accurate financial information on, while safeguarding the privacy of, current and former scholars from the time they are enrolled in the program until they successfully meet their service obligation;

(d) Describe a plan for developing and maintaining partnerships with State VR agencies, community-based rehabilitation service providers, and LEAs that includes—

(1) Coordination between the grantee and the State VR agencies and community-based rehabilitation service providers that will promote qualifying employment opportunities for RSA scholars and formalized on-boarding and induction experiences for new hires;

(2) Formal opportunities for RSA scholars to obtain work experiences through internships, practicum agreements, job shadowing, and mentoring opportunities;

(3) Formal opportunities for RSA scholars to obtain work experiences in LEAs to develop practical knowledge on effective special education teacher-VR counselor collaborations that foster increased awareness in LEAs of pre-employment transition services and vocational rehabilitation transition services, and the successful planning and provision of these services; and

(4) A scholar internship assessment tool that is developed to ensure a consistent approach to the evaluation of scholars in a particular program. Applicants must describe how—

(i) The tool will reflect the specific responsibilities of the scholar during the internship;

(ii) Grantees and worksite supervisors will work together to develop the assessment tool. Supervisors at the internship site will complete the assessment detailing the scholar's strengths and areas for improvement that must be addressed and provide the results of the assessment to the grantee; and

(iii) The grantee will ensure that (A) RSA scholars are provided with a copy of the assessment and all relevant rubrics prior to beginning their internship, (B) supervisors have sufficient technical support to accurately complete the assessment, and (C) scholars receive a copy of the results of the assessment within 90 days of the end of their internship;

(e) Describe how RSA scholars will be evaluated throughout the program to ensure that they are proficient in meeting the needs and demands of consumers and employers, including the steps that will be taken to provide assistance to an RSA scholar who is not meeting academic standards or who is performing poorly in a practicum or internship setting;

(f) Describe how the program will be evaluated, including how—

(1) The program will determine its effectiveness over time in filling vacancies in the State VR agency with qualified counselors or rehabilitation professionals capable of providing quality services to consumers;

(2) Input from State VR agencies and community-based rehabilitation service providers will be included in the evaluation;

(3) Feedback from consumers of VR services and employers (including the assessments described in paragraph (d)(4)) will be included in the evaluation;

(4) Data on the State VR program from other sources, such as the Department, will be included in the evaluation; and

(5) The data and results from the evaluation will be used to make necessary adjustments and improvements to the program.

Selection Criteria: The following selection criteria are from 34 CFR 386.20 and 34 CFR 75.210. In responding to the selection criteria, applications should show how the proposed project meets the absolute priority and requirements outlined in this NIA.

(a) Relevance to State-Federal vocational rehabilitation service program. (5 points)

(1) The Secretary reviews each application for information that shows that the proposed project appropriately relates to the mission of the State-Federal vocational rehabilitation service program.

(2) The Secretary looks for information that shows that the project can be expected either—

(i) To increase the supply of trained personnel available to State and other public or nonprofit agencies involved in the rehabilitation of individuals with disabilities through degree or certificate granting programs; or

(ii) To improve the skills and quality of professional personnel in the rehabilitation field in which the training is to be provided through the granting of a degree or certificate.

(b) Nature and scope of curriculum. (30 points)

(1) The Secretary reviews each application for information that demonstrates the adequacy of the proposed curriculum.

(2) The Secretary looks for information that shows—

(i) The curriculum and teaching methods provide for an integration of theory and practice relevant to the educational objectives of the program.

(ii) For programs whose curricula require them, there is evidence of educationally focused practical and other field experiences in settings that ensure student involvement in the provision of vocational rehabilitation, supported employment, customized employment, pre-employment transition services, transition services, or independent living rehabilitation services to individuals with disabilities, especially individuals with significant disabilities.

(iii) If applicable, there is evidence of current professional accreditation by the designated accrediting agency in the professional field in which grant support is being requested.

(c) Quality of the project design. (20 points)

(1) In determining the quality of the design of the proposed project, the Secretary considers the following factors:

(i) The extent to which the goals, objectives, and outcomes to be achieved by the proposed project are clearly specified, measurable, and ambitious yet achievable within the project period, and aligned with the purposes of the grant program.

(ii) The extent to which the design of the proposed project includes a thorough, high-quality review of the relevant literature, a high-quality plan for project implementation, and the use of appropriate methodological tools to enable successful achievement of project objectives.

(iii) The extent to which there is a plan to incorporate the project purposes, activities, or benefits into the ongoing work of the applicant beyond the end of the project period.

(iv) The extent to which the services to be provided by the proposed project involve the use of efficient strategies, including the use of technology, as appropriate, and the leveraging of non-project resources.

(d) Adequacy of resources. (15 points)

(1) The Secretary considers the adequacy of resources for the proposed project.

(2) In determining the adequacy of resources for the proposed project, the Secretary considers the following factors:

(i) The adequacy of support for the project, including facilities, equipment, supplies, and other resources, from the applicant organization or the lead applicant organization.

(ii) The extent to which the costs are reasonable in relation to the number of persons to be served, the depth and intensity of services, and the anticipated results and benefits.

(iii) The relevance and demonstrated commitment of each partner in the proposed project to the implementation and success of the project.

(e) Quality of the management plan. (20 points)

(1) The Secretary considers the quality of the management plan for the proposed project.

(2) In determining the quality of the management plan for the proposed project, the Secretary considers the following factors:

(i) The feasibility of the management plan to achieve project objectives and goals on time and within budget, including clearly defined responsibilities, timelines, and milestones for accomplishing project tasks.

(ii) The extent to which the project director or principal investigator, when hired, has the qualifications required for the project, including formal training or work experience in fields related to the objectives of the project and experience in designing, managing, or implementing similar projects for the target population to be served by the project.

(iii) The qualifications, including relevant training and experience, of project consultants or subcontractors.

(iv) The extent to which the time commitments of the project director and principal investigator and other key project personnel are appropriate and adequate to meet the objectives of the proposed project.

(f) Quality of the project evaluation or other evidence-building. (10 points)

(1) The Secretary considers the quality of the evaluation or other evidence-building of the proposed project.

(2) In determining the quality of the evaluation or other evidence-building, the Secretary considers the following factors:

(i) The extent to which the methods of evaluation or other evidence-building are thorough, feasible, relevant, and appropriate to the goals, objectives, and outcomes of the proposed project.

(ii) The extent to which the methods of evaluation or other evidence-building will provide guidance for quality assurance and continuous improvement.

In addition to the selection criteria listed above, the Secretary considers these factors from 34 CFR 385.33—

(a) The geographical distribution of projects in each Rehabilitation Training program category throughout the country; and

(b) The past performance of the applicant in carrying out similar training activities under previously awarded grants, as indicated by such factors as compliance with grant conditions, soundness of programmatic and financial management practices, and attainment of established project objectives.

These criteria are outside of the non-Federal peer review process. The criterion related to geographical distribution of projects will be applied to fund applications out of rank order if the top-ranked applications do not represent a geographical distribution throughout the country. The criterion related to past performance will be applied to all applications that are recommended for funding.

Performance Measures:

For the purposes of Department reporting under 34 CFR 75.110, the Department has established a set of performance measures that are designed to yield information on various aspects of the effectiveness and quality of the RLTT program. These measures are:

Performance Measure 1: The percentage of master's level counseling graduates fulfilling their payback requirements through qualifying employment.

Performance Measure 2: The percentage of master's level counseling graduates fulfilling their payback requirements through qualifying employment in State VR agencies.

Performance Measure 3: The Federal cost per master's level RSA-supported rehabilitation counseling graduate.

Performance Measure 4: Number of scholars enrolled during the reporting period.

Performance Measure 5: Number of scholars who dropped out or were dismissed from the program during the reporting period.

Performance Measure 6: Number of scholars who graduated from the program during the reporting period.

Performance Measure 7: Number of scholars who obtained employment in a State VR agency during the reporting period.

Performance Measure 8: Number of scholars who maintained or advanced in their employment in a State VR agency during the reporting period.

Grant applications must include the performance targets for each reporting period and by the end of the grant period of performance.

Program Authority: 29 U.S.C. 772.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The regulations for this program in 34 CFR parts 385 and 386. (e) The NFP published elsewhere in this issue of the Federal Register.

Note: The regulations in 34 CFR part 79 apply to all applicants except federally recognized Indian Tribes.

Note: The regulations in 34 CFR part 86 apply to institutions of higher education only.

Cost Sharing or Matching: Cost sharing of 10 at least percent of the total cost of the project is required of grantees under the Rehabilitation Long-Term Training Program. The Secretary may waive part of the non-Federal share of the cost of the project after negotiations if the applicant demonstrates that it does not have sufficient resources to contribute the entire match (34 CFR 386.30). The Secretary does not, as a general matter, anticipate waiving this requirement in the future. Furthermore, given the importance of matching funds to the long-term success of the project, eligible entities must identify appropriate matching funds in the proposed budget. To the extent that the Department uses funds set aside under section 21 of the Rehabilitation Act to make awards to minority entities or Indian tribes to carry out activities under authorized title III programs, such as the Rehabilitation Long-Term Training program, we require cost sharing equal to that of the programs under which the award is made.

Indirect Cost Rate Information: Under 34 CFR 75.562(c), an indirect cost reimbursement on a training grant is limited to the recipient's actual indirect costs, as determined by its negotiated indirect cost rate agreement, or eight percent of a modified total direct cost base, whichever amount is less. Indirect costs in excess of the limit may not be charged directly, used to satisfy matching or cost-sharing requirements, or charged to another Federal award.

Scholarships: Under 34 CFR 386.31(a), a grantee must use at least 65 percent of the total cost of the project under this program for scholarships as defined in 34 CFR 386.4. Applicants must address this requirement in the budget information (ED Form 524, Section B) and budget narrative. The applicant must clearly demonstrate the amount of stipend support to be contributed for each year of the grant in the budget and detail in the budget narrative what the stipend will cover.

Subawards: Under 34 CFR 75.708(b) and (c) a grantee under this competition may not award subgrants to entities to directly carry out project activities described in its application.

Under 34 CFR 75.708(e), a grantee may contract for supplies, equipment, and other services in accordance with 2 CFR part 200.

Application and Submission Information:

1. Application Submission Instructions: Applicants are required to follow the Common Instructions for Applicants to Department of Education Discretionary Grant Programs, published in the Federal Register on December 23, 2024 (89 FR 104528) and available at https://www.federalregister.gov/d/2024-30488, which contain requirements and information on how to submit an application.

2. Intergovernmental Review: This competition is subject to intergovernmental review under Executive Order 12372. Information about this process is in the application package.

3. Submission of Proprietary Information: Given the types of projects that may be proposed in applications for the RLTT competition, your application may include business information that you consider proprietary. We define “business information” and describe the process we use in determining whether any of that information is proprietary and, thus, protected from disclosure under Exemption 4 of the Freedom of Information Act.

Because we plan to make successful applications available to the public, you may wish to request confidentiality of business information.

Please designate in your application any information that you believe is exempt from disclosure under Exemption 4. In the appropriate Appendix section of your application, under “Other Attachments Form,” please list the page number or numbers on which we can find this information.

4. Funding Restrictions: We reference regulations outlining funding restrictions in the Applicable Regulations section of this notice.

5. Recommended Page Limit: The application narrative (Part III of the application) is where you, the applicant, address the selection criteria that reviewers use to evaluate your application. We recommend that you (1) limit the application narrative to no more than 45 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs. Use a font that is either 12 point or larger or no smaller than 10 pitch (characters per inch). Use one of the following fonts: Times New Roman, Courier, Courier New, or Arial.

The recommended page limit does not apply to Part I, the cover sheet; Part II, the budget section, including the narrative budget justification; Part IV, the assurances and certifications; or the one-page abstract, the resumes, the bibliography, or the letters of support. However, the recommended page limit does apply to all of the application narrative, including all text in charts, tables, figures, graphs, and screen shots.

6. Review and Selection Process: We remind potential applicants that in reviewing applications in any discretionary grant competition, the Secretary may consider the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

Note: A faith-based organization is eligible to apply for and receive a grant under this program on the same basis as any other private organization, consistent with Appendix A to 34 CFR part 75.

7. Risk Assessment and Specific Conditions: Before awarding grants under this competition the Department conducts a review of the risks posed by applicants. The Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

8. Integrity and Performance System: If you are selected under this competition to receive an award that over the course of the project period may exceed the simplified acquisition threshold (currently $250,000), we must make a judgment about your integrity, business ethics, and record of performance under Federal awards—that is, the risk posed by you as an applicant—before we make an award. In doing so, we must consider any information about you that is in the System for Award Management's (SAM) Responsibility/Qualification reports (formerly referred to as the Federal Awardee Performance and Integrity Information System (FAPIIS)). You may review and comment on any information about yourself that a Federal agency previously entered and that is currently in the Responsibility/Qualification reports in SAM.

If the total value of your currently active grants, cooperative agreements, and procurement contracts from the Federal Government exceeds $10,000,000, the reporting requirements in 2 CFR part 200, Appendix XII, require you to report certain integrity information to SAM semiannually. Please review these requirements if this grant plus all the other Federal funds you receive exceed $10,000,000.

Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements should you receive funding under the competition. This does not apply if you have an exception.

(b) At the end of your project's period of performance, you must submit a final performance report, including financial information, as directed by the Secretary. If you receive a multiyear award, you must submit semiannual and annual performance reports that provide the most current performance and financial expenditure information as directed by the Secretary. The Secretary may also require more frequent performance reports. For specific requirements on reporting, please go to www.ed.gov/fund/grant/apply/appforms/appforms.html.

5. Continuation Awards: In making a continuation award, the Secretary considers, among other things: whether a grantee has made substantial progress in achieving the goals and objectives of the project; whether the grantee has expended funds in a manner that is consistent with its approved application and budget; if the Secretary has established performance measurement requirements, whether the grantee has made substantial progress in achieving the performance targets in the grantee's approved application; and whether the continuation of the project is in the best interest of the Federal Government.

In making a continuation award, the Secretary also considers whether the grantee is operating in compliance with the assurances in its approved application, including those applicable to Federal civil rights laws that prohibit discrimination in programs or activities receiving Federal financial assistance from the Department.

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, compact disc, or other accessible format.

Diana Diaz,
Deputy Assistant Secretary and Acting Assistant Secretary for Special Education and Rehabilitative Services.

[FR Doc. 2025-11118 Filed 6-16-25; 8:45 am]

BILLING CODE 4000-01-P